DEPARTMENT OF THE INTERIOR

National Park Service

[NPS-WASO-NRNHL-DTS#-34832; PPWOCRADI0, PCU00RP14.R50000]

National Register of Historic Places; Notification of Pending Nominations and Related Actions

AGENCY: National Park Service, Interior.

ACTION: Notice.

SUMMARY: The National Park Service is soliciting electronic comments on the significance of properties nominated before October 29, 2022, for listing or related actions in the National Register of Historic Places.

DATES: Comments should be submitted electronically by November 25, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 29, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Shelby County

Shoal Creek Club, 100 New Williamsburg Dr., Shoal Creek, SG100008439

CALIFORNIA

Los Angeles County

Miracle Mile Apartments Historic District, Roughly bounded by West 3rd St. (alley to south), South La Brea Ave., Wilshire and, Hauser Blvds., and West 6th St., Los Angeles, SG100008438

Sierra County

Ramelli Dairy Ranch, 100 Green Gulch Rd., Chilcoot vicinity, SG100008443

Sonoma County

Fort Ross Landing Historical and Archaeological District (Northern California Doghole Ports Maritime Cultural Landscape MPS), Address Restricted, Jenner, MP100008442

MICHIGAN

Kalamazoo County

Upjohn Company Office Building, 301 John St., Kalamazoo, SG100008450

MISSOURI

Jackson County

Anderson Electric Car Company Building, 3240 Main St., Kansas City, SG100008447

ABC Storage & Van Company Warehouse B, 3244 Main St., Kansas City, SG100008448

Pettis County

Yount, Thomas and Mildred, House, 1809 West Third St., Sedalia, SG100008449

MONTANA

Lewis and Clark County

Morelli Bridge, Head of Reeder's Alley on Howie St., Helena, SG100008436

OHIO

Fairfield County

Wagnalls Memorial, 150 SE Columbus St., Lithopolis, SG100008437

Trumbull County

Dunlap-Burnett-Moss House, 1499 Burnett St. (Twp. Hwy. 158), Mineral Ridge, SG100008444

OKLAHOMA

Oklahoma County

St. Ann's Home for the Aged, 3825 NW 19th St., Oklahoma City, SG100008453

WASHINGTON

King County

Wallingford-Meridian Streetcar Historic District (Historic Residential Suburbs in the United States, 1830-1960 MPS), Roughly bounded by North and NE 50th St., 5th Avenue NE, NE 45th and North 46th Sts., and Interlake Ave. North, Seattle, MP100008441

WISCONSIN

Fond Du Lac County

Palm Tree Road Bridge, Palm Tree Rd. over the Sheboygan R., Marshfield, SG100008451

Additional documentation has been received for the following resources:

NEW YORK

Orange County

Bodine's Tavern (Additional Documentation), 2 Bodine Tavern Rd., Montgomery, AD16000307

Mountainville Grange Hall (Additional Documentation) (Cornwall MPS), NY 32, south of jct. with Creamery Rd., Cornwall, AD96000557

SOUTH DAKOTA

Minnehaha County

Cathedral Historic District (Additional Documentation), Bounded by West 4th, West 10th and West 6th Sts., Spring, Prairie, and Summit Aves., Sioux Falls, AD74001896

Authority: Section 60.13 of 36 CFR part 60.

Dated: November 2, 2022.
Sherry A. Frear,
Chief, National Register of Historic Places/National Historic Landmarks Program.

[FR Doc. 2022-24374 Filed 11-7-22; 8:45 am]

BILLING CODE 4312-52-P